ENVIRONMENTAL PROTECTION AGENCY

40 CFR Parts 86 and 600

[EPA-HP-OAR-2005-0169; FRL-8257-5]

RIN 2060-AN14

Fuel Economy Labeling of Motor Vehicles: Revisions to Improve Calculation of Fuel Economy Estimates

Correction

In rule document 06-9749 beginning on page 77872 in the issue of Wednesday, December 27, 2006, make the following corrections:

§ 86.244-94 [Corrected]

1. On page 77926, in the third column, in § 86.244-94, in the second line from the bottom of the section, “CH4” should read “CH4”.

§ 600.114-08 [Corrected]

2. On page 77941, in § 600.114-08(c)(1)(ii)(B) the equation is corrected to read as follows:

§ 600.315-08 [Corrected]

3. On page 77954. in the first column, in § 600.315-08(g)(1)(i), in the first line, “W4-;” should read “W4-”.

4. On the same page, in the same column, in § 600.315-08(g)(1)(ii), in the first line, “H201-;” should read “H201-”.

5. On the same page, in the same column, in § 600.315-08(g)(1)(iii), in the first line, “L205-;” should read “L205-”.

6. On the same page, in the same column, in § 600.315-08(g)(2)(i)(B), in the first line, “L211-;” should read “L211-”.

7. On the same page, in the same column, in § 600.315-08(g)(2)(ii), in the first line, “W4-;” should read “W4-”.

8. On the same page, in the same column, in § 600.315-08(g)(2)(iii), in the first line, “H198-;” should read “H198-”.

[FR Doc. C6-9749 Filed 2-20-07; 8:45 am]

BILLING CODE 1505-01-D